DEPARTMENT OF COMMERCE

International Trade Administration

[C-489-502]

Circular Welded Carbon Steel Pipes and Tubes From Turkey: Final Results of the Expedited Sunset Review of the Countervailing Duty Order

AGENCY: Enforcement and Compliance, International Trade Administration, Department of Commerce.

SUMMARY: The U.S. Department of Commerce (Commerce) finds that revocation of the countervailing duty (CVD) order on circular welded carbon steel pipes and tubes (pipe and tube) from Turkey would be likely to lead to continuation or recurrence of countervailable subsidies at the levels indicated in the “Final Results of the Sunset Review” section of this notice.

DATES: Applicable April 24, 2023.

FOR FURTHER INFORMATION CONTACT: Kristen Johnson, AD/CVD Operations, Office III, Enforcement and Compliance, International Trade Administration, U.S. Department of Commerce, 1401 Constitution Avenue NW, Washington, DC 20230; telephone: (202) 482-4793.

SUPPLEMENTARY INFORMATION:

Background

On March 7, 1986, Commerce published the order on pipe and tube from Turkey.¹ On January 3, 2023, Commerce published the notice of initiation of the fifth sunset review of the Order, pursuant to section 751(c) of the Tariff Act of 1930, as amended (the Act).² On January 17 and 18, 2023, Commerce received timely-filed notices of intent to participate in this review from Nucor Tubular Products Inc. and from Bull Moose Tube Company, Maruichi American Corporation, and Zekelman Industries, respectively, (collectively, the domestic interested parties), within the deadline specified in 19 CFR 351.218(d)(1)(i).³ The domestic interested parties claim that they have interested party status within the meaning of section 771(9)(C) of the Act and 19 CFR 351.102(b)(29)(v) as a producers of the domestic like product.⁴

¹ See Countervailing Duty Order: Certain Welded Carbon Steel Pipe and Tube Products from Turkey, 51 FR 7984 (March 7, 1986) (Order).

² See Initiation of Five-Year (Sunset) Reviews, 88 FR 63 (January 3, 2023).

³ See Nucor Tubular Products Inc.'s Letter, “Notice of Intent to Participate in Sunset Review,” dated January 17, 2023 (Nucor Tubular's Notice of Intent); see also Bull Moose, et al.'s Letter, “Notice of Intent to Participate,” dated January 18, 2023 (Bull Moose, et al.'s Notice of Intent).

⁴ See Nucor Tubular's Notice of Intent at 2; see also Bull Moose, et al.'s Notice of Intent at 2.

On February 2, 2023, Commerce received an adequate substantive response from the domestic interested parties within the 30-day deadline specified in 19 CFR 351.218(d)(3)(i).⁵ Commerce did not receive a substantive response from the Government of Turkey or any respondent interested party to this proceeding, nor was a hearing requested. On February 24, 2023, Commerce notified the U.S. International Trade Commission that it did not receive an adequate substantive response from respondent interested parties.⁶ As a result, Commerce conducted an expedited (120-day) sunset review of the Order, pursuant to section 751(c)(3)(B) of the Act and 19 CFR 351.218(e)(1)(ii)(B)(2) and (C)(2).

⁵ See Domestic Interested Parties' Letter, “Domestic Interested Parties' Substantive Response to the Notice of Initiation,” dated February 2, 2023 (Domestic Interested Parties' Substantive Response).

⁶ See Commerce's Letter, “Sunset Reviews for January 2023,” dated February 24, 2023.

Scope of the Order

The merchandise covered by this Order is certain circular welded carbon steel pipes and tubes. For a complete description of the scope of the Order, see the Issues and Decision Memorandum.⁷

⁷ See Memorandum, “Issues and Decision Memorandum for the Final Results of the Expedited Sunset Review of the Countervailing Duty Order on Circular Welded Carbon Steel Pipes and Tubes from Turkey,” dated concurrently with and adopted by this notice (Issues and Decision Memorandum).

Analysis of Comments Received

A complete discussion of all issues raised in this sunset review, including the likelihood of continuation or recurrence of subsidization in the event of revocation of the Order and the countervailable subsidy rates likely to prevail if the Order were to be revoked, is provided in the accompanying Issues and Decision Memorandum. A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNoticesListLayout.aspx.

Final Results of Sunset Review

Pursuant to sections 751(c) and 752(b) of the Act, we determine that revocation of the Order would be likely to lead to continuation or recurrence of a countervailable subsidies at the following net countervailable subsidy rates:

⁸ The Borusan Group includes the following entities: Borusan Group, Borusan Holding, A.S., Borusan Mannesmann Boru Sanayi ve Ticaret A.S., Borusan Istikbal Ticaret, A.S., and Borusan Lojistik Dagitim Pepolama Tasimacilik ve Tic A.S.

⁹ Erbosan includes Erbosan Erciyas Boru Sanayi ve Ticaret A.S. (Erbosan AS) and Erbosan Erciyas Pipe Industry and Trade Co. Kayseri Free Zone Branch (Erbosan FZB).

¹⁰ The Yucel Boru Group includes Yucel Boru ye Profil Endustrisi A.S, Yucelboru Ihracat Ithalat ye Pazarlama A.S, and Cayirova Born Sanayi ye Ticaret A.S.

Producers/exporters | Net countervailable subsidy rate ad valorem (percent)
Bant Boru Sanayi ve Ticaret A.S | 4.10
Borusan Group ⁸ | 1.80
Erbosan ⁹ | 4.10
Yucel Boru Group ¹⁰ | 2.04
All Others | 4.10

Administrative Protective Order

This notice serves as the only reminder to parties subject to an administrative protective order (APO) of their responsibility concerning the disposition of proprietary information disclosed under APO in accordance with 19 CFR 351.305, which continues to govern business proprietary information in this segment of the proceeding. Timely notification of the return or destruction of APO materials or conversion to judicial protective order is hereby requested. Failure to comply with the regulations and the terms of an APO is a sanctionable violation.

Notification to Interested Parties

Commerce is issuing and publishing these final results and this notice in accordance with sections 751(c), 752(b), and 777(i)(1) of the Act and 19 CFR 351.218.

Dated: April 18, 2023.
Lisa W. Wang,
Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2023-08605 Filed 4-21-23; 8:45 am]

BILLING CODE 3510-DS-P